FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 8, 2012.

A. Federal Reserve Bank of Richmond (Adam M. Drimer, Assistant Vice President) 701 East Byrd Street, Richmond, Virginia 23261-4528:

1. Tamra Wright Thomas, Winston Salem, North Carolina; to acquire voting shares of Surrey Bancorp, Mount Airy, and thereby indirectly acquire voting shares of Surrey Bank & Trust, both in Mount Airy, North Carolina.

B. Federal Reserve Bank of Kansas City (Dennis Denney, Assistant Vice President) 1 Memorial Drive, Kansas City, Missouri 64198-0001:

1. The E.L. Burch Irrevocable Trust of 2012, together with its trustees, Kyle Burch, both of Parkville, Missouri, and Michele Jones, Overland Park, Kansas; to acquire voting shares of Platte County Bancshares, Inc., and thereby indirectly acquire voting shares of Platte Valley Bank of Missouri, both in Platte City, Missouri.

Board of Governors of the Federal Reserve System, October 19, 2012.
Robert deV. Frierson,
Secretary of the Board.

[FR Doc. 2012-26196 Filed 10-23-12; 8:45 am]

BILLING CODE 6210-01-P